DEPARTMENT OF ENERGY

Federal Energy Regulatory Commission

Combined Notice of Filings #1

September 4, 2007.

Take notice that the Commission has received the following Natural Gas Pipeline Rate and Refund Report filings:

Docket Numbers: RP00-469-013.

Applicants: East Tennessee Natural Gas, LLC.

Description: East Tennessee Natural Gas, LLC submits Second Revised Sheet 103 to FERC Gas Tariff, Third Revised Volume 1, to become effective 10/1/07.

Filed Date: 08/30/2007.

Accession Number: 20070831-0056.

Comment Date: 5 p.m. Eastern Time on Tuesday, September 11, 2007.

Docket Numbers: RP06-589-002.

Applicants: Texas Gas Transmission, LLC.

Description: Texas Gas Transmission, LLC submits First Revised Sheet 165 to FERC Gas Tariff, Second Revised Volume 1, to be effective 11/1/07.

Filed Date: 08/30/2007.

Accession Number: 20070830-0146.

Comment Date: 5 p.m. Eastern Time on Tuesday, September 11, 2007.

Docket Numbers: RP07-99-002.

Applicants: ANR Pipeline Company.

Description: Motion of ANR Pipeline Company to place lower settlement rates into effect pending action of offer of settlement under RP07-99.

Filed Date: 08/30/2007.

Accession Number: 20070831-0057.

Comment Date: 5 p.m. Eastern Time on Wednesday, September 12, 2007.

Docket Numbers: RP07-634-000.

Applicants: Equitrans, LP.

Description: Equitrans, LP submits Eighteenth Revised Sheet 5, et al. to FERC Gas Tariff, Original Volume 1, to be effective 10/1/07.

Filed Date: 08/30/2007.

Accession Number: 20070830-0144.

Comment Date: 5 p.m. Eastern Time on Tuesday, September 11, 2007.

Docket Numbers: RP07-635-000.

Applicants: Questar Southern Trails Pipeline Company.

Description: Questar Southern Trails Pipeline Company submits Sixth Revised Sheet 4 to FERC Gas Tariff, Original Volume 1, to be effective 10/1/07.

Filed Date: 08/30/2007.

Accession Number: 20070831-0001.

Comment Date: 5 p.m. Eastern Time on Tuesday, September 11, 2007.

Docket Numbers: RP07-636-000.

Applicants: Questar Pipeline Company.

Description: Questar Pipeline Company submits Forty-Second Revised Sheet 5 & Twenty-First Revised Sheet 6 to FERC Gas Tariff, First Revised Volume 1, to be effective 10/1/07.

Filed Date: 08/30/2007.

Accession Number: 20070831-0002.

Comment Date: 5 p.m. Eastern Time on Tuesday, September 11, 2007.

Docket Numbers: RP07-637-000.

Applicants: Dominion South Pipeline Company, LP.

Description: Dominion South Pipeline Company, LP submits Second Revised Sheet 50 & Second Revised Sheet 51 to FERC Gas Tariff, Original Volume 1, to be effective 10/1/07.

Filed Date: 08/30/2007.

Accession Number: 20070831-0003.

Comment Date: 5 p.m. Eastern Time on Tuesday, September 11, 2007.

Docket Numbers: RP07-638-000.

Applicants: Great Lakes Gas Transmission Limited Partnership.

Description: Great Lakes Gas Transmission Limited Partnership submits Twentieth Revised Sheet 7 to FERC Gas Tariff, Second Revised Volume 1 required under the Annual Charges Adjustment provision of Order 472, effective 10/1/07.

Filed Date: 08/30/2007.

Accession Number: 20070831-0004.

Comment Date: 5 p.m. Eastern Time on Tuesday, September 11, 2007.

Docket Numbers: RP07-639-000.

Applicants: Pine Needle LNG Company, LLC.

Description: Pine Needle LNG Co, LLC submits Fourteenth Revised Sheet 4 to FERC Gas Tariff, Original Volume 1, to become effective 10/1/07.

Filed Date: 08/30/2007.

Accession Number: 20070831-0055.

Comment Date: 5 p.m. Eastern Time on Tuesday, September 11, 2007.

Docket Numbers: RP07-640-000.

Applicants: Tennessee Gas Pipeline Company.

Description: Tennessee Gas Pipeline Co submits Thirty-Fifth Revised Sheet 20, et al. to FERC Gas Tariff, Fifth Revised Volume 1, to become effective 10/1/07.

Filed Date: 08/30/2007.

Accession Number: 20070831-0054.

Comment Date: 5 p.m. Eastern Time on Tuesday, September 11, 2007.

Docket Numbers: RP07-641-000.

Applicants: Saltville Gas Storage Company, LLC.

Description: Saltville Gas Storage Co, LLC submits First Revised Sheet 111C, et al. to FERC Gas Tariff, Original Volume 1, to become effective 10/1/07.

Filed Date: 08/30/2007.

Accession Number: 20070831-0053.

Comment Date: 5 p.m. Eastern Time on Tuesday, September 11, 2007.

Docket Numbers: RP07-642-000.

Applicants: Transcontinental Gas Pipe Line Corp.

Description: Transcontinental Gas Pipe Line Corp submits Forty-Ninth Revised Sheet 27 to FERC Gas Tariff, Third Revised Volume 1, to become effective 10/1/07.

Filed Date: 08/30/2007.

Accession Number: 20070831-0052.

Comment Date: 5 p.m. Eastern Time on Tuesday, September 11, 2007.

Docket Numbers: RP07-643-000.

Applicants: Guardian Pipeline, LLC.

Description: Guardian Pipeline, LLC submits Thirteenth Revised Sheet 5 to FERC Gas Tariff, Original Volume 1, to become effective 10/1/07.

Filed Date: 08/31/2007.

Accession Number: 20070831-0058.

Comment Date: 5 p.m. Eastern Time on Wednesday, September 12, 2007.

Docket Numbers: RP07-644-000.

Applicants: Viking Gas Transmission Company.

Description: Viking Gas Transmission Co submits Twentieth Revised Sheet 5B to FERC Gas Tariff, First Revise Volume 1, to become effective 10/1/07.

Filed Date: 08/31/2007.

Accession Number: 20070831-0059.

Comment Date: 5 p.m. Eastern Time on Wednesday, September 12, 2007.

Docket Numbers: RP07-645-000.

Applicants: Petal Gas Storage, LLC.

Description: Petal Gas Storage, LLC submits Fifth Revised Sheet 4A to FERC Gas Tariff, Original Volume 1, to become effective 10/1/07.

Filed Date: 08/31/2007.

Accession Number: 20070831-0060.

Comment Date: 5 p.m. Eastern Time on Wednesday, September 12, 2007.

Docket Numbers: RP07-646-000.

Applicants: Northern Natural Gas Company.

Description: Northern Natural Gas submits 75 Revised Sheet 50, et al. to FERC Gas Tariff, Fifth Revised Volume 1, to become effective 10/1/07.

Filed Date: 08/31/2007.

Accession Number: 20070831-0061.

Comment Date: 5 p.m. Eastern Time on Wednesday, September 12, 2007.

Docket Numbers: RP07-647-000.

Applicants: Florida Gas Transmission Company, LLC.

Description: Florida Gas Transmission Co submits Seventh Revised Sheet 7, et al. to FERC Gas Tariff, Fourth Revised Volume 1, to become effective 10/1/07.

Filed Date: 08/31/2007.

Accession Number: 20070831-0062.

Comment Date: 5 p.m. Eastern Time on Wednesday, September 12, 2007.

Docket Numbers: RP07-648-000.

Applicants: Northern Natural Gas Company.

Description: Northern Natural Gas Co. submits Ninth Revised Sheet 3, et al. to FERC Gas Tariff, Fifth Revised Volume 1, to become effective 10/1/07.

Filed Date: 08/31/2007.

Accession Number: 20070831-0063.

Comment Date: 5 p.m. Eastern Time on Wednesday, September 12, 2007.

Docket Numbers: RP07-649-000.

Applicants: Texas Gas Transmission, LLC.

Description: Texas Gas Transmission, LLC submits Fifth Revised Sheet 2, et al. to FERC Gas Tariff, Second Revised Volume 1, to become effective 10/1/07.

Filed Date: 08/31/2007.

Accession Number: 20070831-0066.

Comment Date: 5 p.m. Eastern Time on Wednesday, September 12, 2007.

Docket Numbers: RP07-650-000.

Applicants: Texas Eastern Transmission, LP.

Description: Texas Eastern Transmission, LP submits its report of recalculated Operational Segment Capacity Entitlements etc. to FERC Gas Tariff, Seventh Revised Volume 1.

Filed Date: 08/31/2007.

Accession Number: 20070831-0067.

Comment Date: 5 p.m. Eastern Time on Wednesday, September 12, 2007.

Docket Numbers: RP07-651-000.

Applicants: Paiute Pipeline Company.

Description: Paiute Pipeline Company submits its Seventeenth Revised Sheet 10 to its FERC Gas Tariff, Second Revised Volume 1-A.

Filed Date: 08/31/2007.

Accession Number: 20070831-0084.

Comment Date: 5 p.m. Eastern Time on Wednesday, September 12, 2007.

Docket Numbers: RP07-652-000.

Applicants: Florida Gas Transmission Company, LLC.

Description: Florida Gas Transmission Company LLC submits its Sixth Revised Sheet 7, et al. to its FERC Gas Tariff, Fourth Revised Volume 1, to become effective 10/1/07.

Filed Date: 08/31/2007.

Accession Number: 20070831-0083.

Comment Date: 5 p.m. Eastern Time on Wednesday, September 12, 2007.

Docket Numbers: RP07-653-000.

Applicants: Midwestern Gas Transmission Company.

Description: Midwestern Gas Transmission Company submits its Ninth Revised Sheet 5 to its FERC Gas Tariff, Third Revised Volume 1, to become effective 10/1/07.

Filed Date: 08/31/2007.

Accession Number: 20070831-0082.

Comment Date: 5 p.m. Eastern Time on Wednesday, September 12, 2007.

Docket Numbers: RP07-654-000.

Applicants: Southwest Gas Transmission Company.

Description: Southwest Gas Transmission Company submits Sixth Revised Sheet 4 as part of its FERC Gas Tariff, First Revised Volume 2.

Filed Date: 08/31/2007.

Accession Number: 20070831-0081.

Comment Date: 5 p.m. Eastern Time on Wednesday, September 12, 2007.

Docket Numbers: RP07-655-000.

Applicants: Columbia Gas Transmission Corporation.

Description: Columbia Gas Transmission Corporation submits Tenth Revised Sheet 280, et al. to its FERC Gas Tariff, Second Revised Volume 1, to become effective 10/1/07.

Filed Date: 08/31/2007.

Accession Number: 20070831-0080.

Comment Date: 5 p.m. Eastern Time on Wednesday, September 12, 2007.

Docket Numbers: RP07-656-000.

Applicants: Destin Pipeline Company, LLC.

Description: Destin Pipeline Company, LLC submits its Tenth Revised Sheet 5. et al. to its FERC Gas Tariff, Original Volume 1, to become effective 10/1/07.

Filed Date: 08/31/2007.

Accession Number: 20070831-0079.

Comment Date: 5 p.m. Eastern Time on Wednesday, September 12, 2007.

Docket Numbers: RP07-657-000.

Applicants: Columbia Gulf Transmission Company.

Description: Columbia Gulf Transmission Company submits Eighth Revised Sheet 144, et al. to its FERC Gas Tariff, Second Revised Volume 1, to become effective 10/1/07.

Filed Date: 08/31/2007.

Accession Number: 20070831-0078.

Comment Date: 5 p.m. Eastern Time on Wednesday, September 12, 2007.

Docket Numbers: RP07-658-000.

Applicants: Williston Basin Interstate Pipeline Co.

Description: Williston Basin Interstate Pipeline Company submits Sixty-Sixth Revised Sheet 15, et al. to its FERC Gas Tariff, Second Revised Volume 1, to become effective 10/1/07.

Filed Date: 08/31/2007.

Accession Number: 20070831-0077.

Comment Date: 5 p.m. Eastern Time on Wednesday, September 12, 2007.

Docket Numbers: RP07-659-000.

Applicants: Williston Basin Interstate Pipeline Co.

Description: Williston Basin Interstate Pipeline Company submits its Sixty-Seventh Revised Sheet 15, et al. to its FERC Gas Tariff, Second Revised Volume 1, to become effective 10/1/07.

Filed Date: 08/31/2007.

Accession Number: 20070831-0076.

Comment Date: 5 p.m. Eastern Time on Wednesday, September 12, 2007.

Docket Numbers: RP07-660-000.

Applicants: Columbia Gas Transmission Corporation.

Description: Columbia Gas Transmission Corporation submits its Eighty-fourth Revised Sheet 25, et al. to its FERC Gas Tariff, Revised Volume 1, to become effective 10/1/07.

Filed Date: 08/31/2007.

Accession Number: 20070831-0074.

Comment Date: 5 p.m. Eastern Time on Wednesday, September 12, 2007.

Docket Numbers: RP07-661-000.

Applicants: Columbia Gulf Transmission Company.

Description: Columbia Gulf Transmission Co. submits its Forty-third Revised Sheet 18, et al. to its FERC Gas Tariff, Second Revised Volume 1, to become effective 10/1/07.

Filed Date: 08/31/2007.

Accession Number: 20070831-0075.

Comment Date: 5 p.m .Eastern Time on Wednesday, September 12, 2007.

Docket Numbers: RP07-662-000.

Applicants: Granite State Gas Transmission, Inc.

Description: Granite State Gas Transmission Inc submits its Thirty-second Revised Sheet 21 etal. to its FERC Gas Tariff, Third Revised Volume 1, to become effective 10/1/07.

Filed Date: 08/31/2007.

Accession Number: 20070831-0073.

Comment Date: 5 p.m. Eastern Time on Wednesday, September 12, 2007.

Docket Numbers: RP07-663-000.

Applicants: Crossroads Pipeline Company.

Description: Crossroads Pipeline Company submits its Seventh Revised Sheet 6 to its FERC Gas Tariff, First Revised Volume 1, to become effective 10/1/07.

Filed Date: 08/31/2007.

Accession Number: 20070831-0072.

Comment Date: 5 p.m. Eastern Time on Wednesday, September 12, 2007.

Docket Numbers: RP07-664-000.

Applicants: Gulf South Pipeline Company, LP.

Description: Gulf South Pipeline LP submits its annual cash-in/cash-out report under RP07-664.

Filed Date: 08/31/2007.

Accession Number: 20070831-0070.

Comment Date: 5 p.m. Eastern Time on Wednesday, September 12, 2007.

Docket Numbers: RP07-665-000.

Applicants: Central Kentucky Transmission Company.

Description: Central Kentucky Transmission Company submits its Fourth Revised Sheet 6 to its FERC Gas Tariff, Original Volume 1, to become effective 10/1/07.

Filed Date: 08/31/2007.

Accession Number: 20070831-0071.

Comment Date: 5 p.m. Eastern Time on Wednesday, September 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Acting Deputy Secretary.

[FR Doc. E7-17734 Filed 9-7-07; 8:45 am]

BILLING CODE 6717-01-P